NUCLEAR REGULATORY COMMISSION

[Docket Nos. 50-275 and 50-323; NRC-2022-0094]

Pacific Gas and Electric Company; Diablo Canyon Nuclear Power Plant, Units 1 and 2

AGENCY: Nuclear Regulatory Commission.

ACTION: License amendment application; withdrawal by applicant.

SUMMARY: The U.S. Nuclear Regulatory Commission (NRC) has granted the request of Pacific Gas and Electric Company (the licensee) to withdraw its application dated February 16, 2022, as supplemented by letters dated June 20, 2022, September 8, 2022, and April 4, 2023, for proposed amendments to Facility Operating License Nos. DPR-80 and DPR-82, issued to the licensee for operation of the Diablo Canyon Nuclear Power Plant, Units 1 and 2, located in San Luis Obispo County, California. The proposed amendments would have permitted alternative security measures for the implementation of an early warning system.

DATES: This document was published in the Federal Register on November 15, 2023.

ADDRESSES: Please refer to Docket ID NRC-2022-0094 when contacting the NRC about the availability of information regarding this document. You may obtain publicly available information related to this document using any of the following methods:

• Federal Rulemaking website: Go to https://www.regulations.gov and search for Docket ID NRC-2022-0094. Address questions about Docket IDs in Regulations.gov to Stacy Schumann; telephone: 301-415-0624; email: Stacy.Schumann@nrc.gov. For technical questions, contact the individual listed in the “For Further Information Contact” section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Samson Lee, Office of Nuclear Reactor Regulation, U.S. Nuclear Regulatory Commission, Washington, DC 20555-0001, telephone: 301-415-3168; email: Samson.Lee@nrc.gov.

SUPPLEMENTARY INFORMATION: The NRC has granted the request of the licensee to withdraw its application dated February 16, 2022 (ADAMS Accession No. ML22048A526), as supplemented by letters dated June 20, 2022 (ADAMS Accession No. ML22173A135), September 8, 2022 (ADAMS Accession No. ML22251A295), and April 4, 2023 (ADAMS Accession No. ML23102A037) for proposed amendments to Facility Operating License Nos. DPR-80 and DPR-82 for the Diablo Canyon Nuclear Power Plant, Units 1 and 2, located in San Luis Obispo, County, California.

The proposed amendments would have permitted alternative security measures for the implementation of an early warning system.

The Commission had previously issued a Notice of Consideration of Issuance of Amendment published in the Federal Register on May 3, 2022 (87 FR 26232). However, by letter dated October 13, 2023 (ADAMS Accession No. ML23286A302), the licensee withdrew the proposed change.

Dated: November 8, 2023.
For the Nuclear Regulatory Commission.
Samson S. Lee,
Senior Project Manager, Plant Licensing Branch IV, Division of Operating Reactor Licensing, Office of Nuclear Reactor Regulation.

[FR Doc. 2023-25101 Filed 11-14-23; 8:45 am]

BILLING CODE 7590-01-P